DEPARTMENT OF HOUSING AND URBAN DEVELOPMENT

[Docket No. FR-4557-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, Pulaski Bldg., Room 4224, 20 Massachusetts Avenue, NW, Washington, DC 20314-1000; (202) 761-0515; GSA: Mr. Brian K. Polly, Assistant Commissioner, General Services Administration, Office of Property Disposal, 18th and F Streets, NW, Washington, DC 20405; (202) 501-0052; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: July 13, 2000.
John D. Garrity,
Director, Office of Special Needs Assistance Programs.

Title V, Federal Surplus Property Program Federal Register Report for 7/21/00

Suitable/Available Properties

Buildings (by State)

Illinois

Army Reserve Center

PVT Perry F. Modrow

5020 State Street

E. St. Louis Co: St. Clair IL 62205-1398

Landholding Agency: GSA

Property Number: 54200030001

Status: Excess

Comment: 16,300 sq. ft. training center & 2656 sq. ft. garage, presence of lead paint

GSA Number: 1-D-IL-726

Kansas

Federal Bldg.

330 Shawnee

Leavenworth Co: KS 66048-

Landholding Agency: GSA

Property Number: 54200030002

Status: Excess

Comment: 22,300 sq. ft., good condition, most recent use—post office/fed. bldg.

GSA Number: 7-G-KS-0517

Minnesota

Project Office

Mississippi Hdqts Lakes

Proj.

Remer Co: Cass MN 56672-

Landholding Agency: COE

Property Number: 31200020007

Status: Unutilized

Comment: 780 sq. ft., needs rehab

Storage 1

Mississippi Hdqts Lakes

Proj.

Remer Co: Cass MN 56672-

Landholding Agency: COE

Property Number: 31200020008

Status: Unutilized

Comment: 2240 sq. ft., needs rehab

Storage 2

Mississippi Hdqts Lakes

Proj.

Remer Co: Cass MN 56672-

Landholding Agency: COE

Property Number: 31200020009

Status: Unutilized

Comment: 180 sq. ft., needs rehab

New Hampshire

Bldg. 10

Portsmouth Naval Shipyard

Portsmouth Co: NH 03804-5000

Landholding Agency: Navy

Property Number: 77200030018

Status: Excess

Comment: 12,000 sq. ft., presence of asbestos lead paint, most recent use—shop facility, off-site use only

Bldg. 239

Portsmouth Naval Shipyard

Portsmouth Co: NH 03804-5000

Landholding Agency: Navy

Property Number: 77200030019

Status: Excess

Comment: 897 sq. ft., presence of asbestos/lead paint, off-site use only

Land (by State)

Minnesota

Land, 2.2 acres

Mississippi Hdqts Lakes

Proj.

Remer Co: Cass MN 56672-

Landholding Agency: COE

Property Number: 31200020010

Status: Unutilized

Comment: 2.2 acres, easements

Unsuitable Properties

Buildings (by State)

California

Bldg. 23025

Marine Corps Air Station

Miramar Co: CA 92132-

Landholding Agency: Navy

Property Number: 77200020001

Status: Unutilized

Reason: Secured Area

Bldg. 23027

Marine Corps Air Station

Miramer Co: CA 92132-

Landholding Agency: Navy

Property Number: 77200030002

Status: Unutilized

Reason: Secured Area

Bldg. 731

Naval Air Station

Point Mugu

Oxnard Co: Ventura Ca 93043-4301

Landholding Agency: Navy

Property Number: 77200030003

Status: Excess

Reason: Extensive deterioration

Bldg. 731A

Naval Construction Battalion

Point Hueneme

Oxnard Co: Ventura CA 93043-4301

Landholding Agency: Navy

Property Number: 77200030004

Status: Excess

Reason: Extensive deterioration

Bldg. 865

Naval Air Station

Point Mugu

Oxnard Co: Ventura CA 93043-4301

Landholding Agency: Navy

Property Number: 77200030005

Status: Excess

Reason: Extensive deterioration

Bldg. 868

Naval Air Station

Point Mugu

Oxnard Co: Ventura CA 93043-4301

Landholding Agency: Navy

Property Number: 77200030006

Status: Excess

Reason: Extensive deterioration

Bldg. 474

Naval Air Station

Point Mugu

Oxnard Co: Ventura CA 93043-4301

Landholding Agency: Navy

Property Number: 77200030007

Status: Excess

Reason: Extensive deterioration

Bldg. 5021

Naval Air Station

Point Mugu

Oxnard Co: Ventura CA 93043-4301

Landholding Agency: Navy

Property Number: 77200030008

Status: Excess

Reason: Extensive deterioration

Bldg. 5022

Naval Air Station

Point Mugu

Oxnard Co: Ventura CA 93043-4301

Landholding Agency: Navy

Property Number: 77200030009

Status: Excess

Reason: Extensive deterioration

Bldg. 5025

Naval Air Station

Point Mugu

Oxnard Co: Ventura CA 93043-4301

Landholding Agency: Navy

Property Number: 77200030010

Status: Excess

Reason: Extensive deterioration

Bldg. 5113

Naval Air Station

Point Mugu

Oxnard Co: Ventura CA 93043-4301

Landholding Agency: Navy

Property Number: 77200030011

Status: Excess

Reason: Extensive deterioration

Bldg. 5114

Naval Air Station

Point Mugu

Oxnard Co: Ventura CA 93043-4301

Landholding Agency: Navy

Property Number: 77200030012

Status: Excess

Reason: Extensive deterioration

Bldg. 82 & 84

Naval Air Station

Point Mugu

Oxnard Co: Ventura CA 93043-4301

Landholding Agency: Navy

Property Number: 77200030013

Status: Excess

Reason: Extensive deterioration

Bldg. 6-1

Naval Air Station

Point Mugu

Oxnard Co: Ventura CA 93043-4301

Landholding Agency: Navy

Property Number: 77200030014

Status: Excess

Reason: Extensive deterioration

Bldg. 479

Naval Construction Battalion

Point Hueneme

Oxnard Co: Ventura CA 93043-4301

Landholding Agency: Navy

Property Number: 77200030015

Status: Excess

Reason: Extensive deterioration

Connecticut

Bldg. 308

Naval Submarine Base

Groton Co: New London CT 06349-

Landholding Agency: Navy

Property Number: 77200030016

Status: Unutilized

Reason: Extensive deterioration

Missouri

Steam Line/Support Structure

Marine Corps Support Activity

Kansas City Co: Jackson MO 64147-

Landholding Agency: Navy

Property Number: 77200030017

Status: Unutilized

Reason: Extensive deterioration

Washington

Bldg. 109

Naval Weapons Station

Port Hadlock Co: Jefferson WA 98339-9723

Landholding Agency: Navy

Property Number: 77200030020

Status: Unutilized

Reason: Within 2000 ft. of flammable or explosive material; Secured Area; Extensive deterioration

Bldg. 157

Naval Weapons Station

Port Hadlock Co: Jefferson WA 98339-9723

Landholding Agency: Navy

Property Number: 77200030021

Status: Unutilized

Reason: Within 2000 ft. of flammable or explosive material; Secured Area; Extensive deterioration

Bldg. 161

Naval Weapons Station

Port Hadlock Co: Jefferson WA 98339-9723

Landholding Agency: Navy

Property Number: 77200030022

Status: Unutilized

Reason: Within 2000 ft. of flammable or explosive material; Secured Area; Extensive deterioration

Bldg. 170

Naval Weapons Station

Port Hadlock Co: Jefferson WA 98339-9723

Landholding Agency: Navy

Property Number: 77200030023

Status: Unutilized

Reason: Within 2000 ft. of flammable or explosive material; Secured Area; Extensive deterioration

Bldg. 262

Naval Weapons Station

Port Hadlock Co: Jefferson WA 98339-9723

Landholding Agency: Navy

Property Number: 77200030024

Status: Unutilized

Reason: Within 2000 ft. of flammable or explosive material; Secured Area; Extensive deterioration

[FR Doc. 00-18160 Filed 7-20-00; 8:45 am]

BILLING CODE 4210-29-M